DEPARTMENT OF HEALTH AND HUMAN SERVICES

Renewal of Cooperative Agreement With the Pan American Health Organization

AGENCY: Office of the Assistant Secretary for Preparedness and Response (ASPR), Department of Health and Human Services (HHS).

ACTION: Notice.

SUMMARY: The Office of the Assistant Secretary for Preparedness and Response (ASPR), in the Department of Health and Human Services (HHS) intends to provide a Single Source Three Year Cooperative Agreement to the Pan American Health Organization (PAHO). The Cooperative Agreement will continue to improve operational capabilities to provide timely, coordinated, and quality medical response to disasters in the Americas region by supporting the WHO Emergency Medical Teams (EMT) Initiative. The collaboration between ASPR and PAHO will focus on supporting PAHO's strategy to develop and train national emergency medical teams with a set of global standards in each country in the region to ensure they can respond to emergencies within their own borders. PAHOs regional strategy for the EMT Initiative concentrates on building emergency medical teams domestically, for each country in the region, to ensure they can respond to emergencies within their own borders first, thereby reducing dependence on U.S. medical assets/capabilities. The total proposed cost of the Single Source Cooperative Agreement is not to exceed $1 million over the three-year life of the Cooperative Agreement.

DATES:

Project Period: The period of performance is from September 30, 2019 to September 30, 2022.

Award Amount: Estimate $1 million.

FOR FURTHER INFORMATION CONTACT:

Maria Marinissen—Maria .Marinissen@hhs.gov, (202) 205-4214.

Michael Guterbock—Michael .Guterbock@hhs.gov, (202) 701-5631.

SUPPLEMENTARY INFORMATION: The Office of the Assistant Secretary for Preparedness and Response (ASPR), International Policy Branch is the program office for this Cooperative Agreement.

Single Source Justification: Founded in 1902, PAHO, based in Washington DC, is an international public health agency working to improve the health and living standards of the people of the Americas Region. It is part of the United Nations system, serving as the Regional Office for the Americas of the World Health Organization (WHO). PAHO is uniquely placed to enhance the medical response capabilities of countries in the Americas Region. The partnership between ASPR and PAHO gives ASPR the ability to shape critical outcomes of the EMT Initiative regionally, and helps inform a timely HHS decision about whether and how to participate in the next generation of international response systems. Although no USG emergency medical response team is part of the EMT, multiple U.S. based non-governmental organizations have been certified or are in the process of certification. It is critical that HHS/ASPR maintains visibility on U.S. based EMTs for both situational awareness and coordination purposes during emergency responses abroad or domestically. Furthermore, increasing the regional disaster response capacities may help alleviate the burden on U.S. resources and assets every time our country is called to provide assistance in the region. Importantly, since there are no self-sufficient USG medical teams ready to deploy internationally and registered in PAHO's roster of EMTs, making sure countries have their own teams may significantly decrease requests for assistance from the USG and the potential for burden to U.S. assets.

The three-year scope of work of the renewed cooperative agreement will build upon the successes of past activities, including the following overarching objectives:

• Development of SOPs and plans for emergency and disaster response of pre-hospital emergency services and EMTs, and the development of tools/guidelines for the optimization of the delivery of clinical care during emergencies.

• Provision of technical support to develop national mechanisms for the registration and mapping of local emergency medical teams for domestic response; mentoring for the creation and operation of EMTs; technical support to national EMTs to ensure self-sufficiency and provision of timely and quality clinical care.

• Development and strengthening of nationally-led health emergency coordination mechanisms (Health EOCs) and technical support to countries to establish or strengthen their health EOCs.

• Integration of national coordination mechanisms (CICOM) including guidelines and operational support for the creation, management and implementation of national CICOM.

• Strengthening of regional health emergency surge capacity including capacity building of national experts in critical areas of emergency coordination, health services, surveillance, logistics, damage and needs assessment, risk communication, etc.

Please submit an inquiry via the ASPR Program Contact: Michael Guterbock, MPH, Michael.Guterbock@hhs.gov, (202) 701-5631.

Authority: Section 301 of the Public Health Service (PHS) Act.

Dated: February 25, 2019.
Robert P. Kadlec,
Assistant Secretary for Preparedness and Response.

[FR Doc. 2019-03842 Filed 3-1-19; 8:45 am]

BILLING CODE 4150-37-P